FEDERAL RESERVE SYSTEM

Change in Bank Control Notices, Acquisition of Shares of Bank or Bank Holding Companies; Correction

This notice corrects a notice (FR Doc. E9-21090 published on page 45450 of the issue for Wednesday, September 2 2009.

Under the Federal Reserve Bank of St. Louis heading, the entry for Robert E. Kirkland, Union City, Tennessee, is revised to read as follows:

A. Federal Reserve Bank of St. Louis (Glenda Wilson, Community Affairs Officer) P.O. Box 442, St. Louis, Missouri 63166-2034:

1. Robert E. Kirkland, Union City, Tennessee, individually and as member of the Kirkland family control group, which consists of himself, REK, LP, Union City, Tennessee (Robert and Jenny Kirkland, as general partners); the Christopher R. Kirkland Revocable Trust (Christopher R. Kirkland, as trustee), Brentwood, Tennessee; Bedford F. Kirkland, Lebanon, Tennessee; and Macy Darnell Swensson, Cincinnati, Ohio; to individually acquire voting shares of Community First Bancshares, Inc., Union City, Tennessee. In addition, the Kirkland family control group has also applied to acquire voting shares of Community First Bancshares, Inc., Union City, Tennessee.

Comments on this application must be received by September 16, 2009.

Board of Governors of the Federal Reserve System, September 2, 2009.
Robert deV. Frierson,
Deputy Secretary of the Board.

[FR Doc. E9-21565 Filed 9-8-09; 8:45 am]

BILLING CODE 6210-01-S